DEPARTMENT OF HEALTH AND HUMAN SERVICES

Health Resources and Services Administration

Agency Information Collection Activities: Submission to OMB for Review and Approval; Public Comment Request; Faculty Loan Repayment Program, OMB No. 0915-0150—Revision

AGENCY: Health Resources and Services Administration (HRSA), Department of Health and Human Services.

ACTION: Notice.

SUMMARY: In compliance with the Paperwork Reduction Act of 1995, HRSA submitted an Information Collection Request (ICR) to the Office of Management and Budget (OMB) for review and approval. Comments submitted during the first public review of this ICR will be provided to OMB. OMB will accept further comments from the public during the review and approval period. OMB may act on HRSA's ICR only after the 30-day comment period for this notice has closed.

DATES: Comments on this ICR should be received no later than December 18, 2023.

ADDRESSES: Written comments and recommendations for the proposed information collection should be sent within 30 days of publication of this notice to www.reginfo.gov/public/do/PRAMain. Find this information collection by selecting “Currently under Review—Open for Public Comments” or by using the search function.

FOR FURTHER INFORMATION CONTACT: To request a copy of the clearance requests submitted to OMB for review, email Joella Roland, the HRSA Information Collection Clearance Officer, at paperwork@hrsa.gov or call (301) 443-3983.

SUPPLEMENTARY INFORMATION:

Information Collection Request Title: Faculty Loan Repayment Program OMB No. 0915-0150—Revision.

Abstract: HRSA administers the Faculty Loan Repayment Program (FLRP). FLRP provides health professionals from disadvantaged backgrounds based on environmental and/or economic factors the opportunity to enter into a contract with the Department of Health and Human Services to receive repayment of qualifying educational loans in exchange for a minimum of 2 years of service as a full-time or part-time faculty member at an eligible health professions school. The applicant completes and submits an electronic application that identifies for the Secretary of Health and Human Services that the applicant comes from an economically or environmentally disadvantaged background who has a contract with an eligible health professions school to serve as a full-time or part-time faculty member for a minimum of 2 years and has qualifying outstanding educational loans. In addition, for each undergraduate and/or graduate loan for which repayment is sought, the applicant is required to submit loan documentation verifying the establishment of the educational loan(s) and lender account statements, promissory notes including the original date, and current balance of the outstanding educational loan(s). The sole change in this version of the ICR from previous ICR versions is that there is an increase in the estimated burden hours related to an increased number of respondents/applicants to the FLRP.

A 60-day notice published in the Federal Register on September 5, 2023, vol. 88, No. 170; pp. 60693-94. There were no public comments.

Need and Proposed Use of the Information: The information collected will be used to evaluate applicants' eligibility to participate in the FLRP and to monitor FLRP related activities.

Likely Respondents: FLRP applicants and institutions providing employment to the applicants.

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Form name | Number of respondents | Number of responses per respondent | Total responses | Average burden per response (in hours) | Total burden hours
Eligible Applications | 215 | 1 | 215 | 1.00 | 215.00
Institution/Loan Repayment Employment Form | * 215 | 1 | 215 | 1.00 | 215.00
Authorization to Release Information Form | 215 | 1 | 215 | 0.25 | 53.75
Disadvantaged Background Form | 215 | 1 | 215 | 0.20 | 43.00
Total | 860 |  |  |  | 526.75
* Respondents for this form is the institution on behalf of the applicant.

Maria G. Button,
Director, Executive Secretariat.

[FR Doc. 2023-25317 Filed 11-15-23; 8:45 am]

BILLING CODE 4165-15-P